DEPARTMENT OF TRANSPORTATION

Office of the Secretary

Notice of Applications for Certificates of Public Convenience and Necessity and Foreign Air Carrier Permits

Notice of Applications for Certificates of Public Convenience and Necessity and Foreign Air Carrier Permits Filed Under Subpart B (formerly Subpart Q) during the Week Ending March 5, 2011. The following Applications for Certificates of Public Convenience and Necessity and Foreign Air Carrier Permits were filed under Subpart B (formerly Subpart Q) of the Department of Transportation's Procedural Regulations (See 14 CFR 301.201 et seq.).

The due date for Answers, Conforming Applications, or Motions To Modify Scope are set forth below for each application. Following the Answer period DOT may process the application by expedited procedures. Such procedures may consist of the adoption of a show-cause order, a tentative order, or in appropriate cases a final order without further proceedings.

Docket Number: DOT-OST-2010-0093.

Date Filed: February 28, 2011.

Due Date for Answers, Conforming Applications, or Motion To Modify Scope: March 21, 2011.

Description: Amendment No. 2 of Open Joint Stock Company Transaero Airlines (“Transaero”) to its application for a foreign air carrier permit to include a request for authority for Transaero to provide scheduled foreign air transportation of persons, property, and mail (i) from any point or points behind the Russian Federation, via any point or points in the Russian Federation and intermediate points, to Los Angeles, California, and (ii) from Los Angeles, California, to any point or points in the Russian Federation and beyond.

Renee V. Wright,
Program Manager, Docket Operations, Federal Register Liaison.

[FR Doc. 2011-8698 Filed 4-11-11; 8:45 am]

BILLING CODE 4910-9X-P